DEPARTMENT OF JUSTICE

Notice of Lodging of Consent Decree Pursuant to the Comprehensive Environmental Response, Compensation, and Liability Act

On December 2, 2020, the Department of Justice lodged a proposed Consent Decree (“Consent Decree”) in the United States District Court for the Northern District of Alabama (Eastern Division), in the lawsuit entitled the United States of America v. Pharmacia, LLC and Solutia, Inc., Civil Action No. 1:02-CV-0749 (KOB).

This Consent Decree represents a settlement of certain claims of the United States (“Plaintiff”) against Pharmacia, LLC and Solutia, Inc. (“Defendants”) under Sections 106, 107, and 113 of the Comprehensive Environmental Response, Compensation, and Liability Act (“CERCLA”), 42 U.S.C. 9606, 9607, and 9613, relating to the Anniston PCB Hazardous Waste Site (“Site”) located in and around Anniston, Alabama. Under the proposed Consent Decree, the Defendants will be required to implement a Record of Decision (“ROD”) issued by the Environmental Protection Agency (“EPA”) with respect to Operable Units 1 and 2 (“OU1” and “OU2”) of the Anniston PCB Site in Anniston, Alabama. The proposed Consent Decree requires the Defendants to finance and conduct the remedial design and remedial action (“RD/RA”), which includes remedial action for both soils and groundwater within OU1 and OU2. These two operable units are outside the plant site (OU3) and consist of both residential and non-residential properties. A previous RD/RA Consent Decree addressing certain properties within OU1 and OU2 identified by EPA as unauthorized waste disposal areas was entered into last year between the United States and MRC Holding Company. This proposed Consent Decree addresses the remainder of OU1 and OU2.

The publication of this notice opens a period for public comment on the Consent Decree. Comments should be addressed to the Assistant Attorney General, Environment and Natural Resources Division, and should refer to United States of America v. Pharmacia, LLC and Solutia, Inc., and the D.J. Ref. No. 90-11-2-07135/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.50 (25 cents per page reproduction cost) payable to the United States Treasury for the Consent Decree and $20.00 for the Consent Decree and Appendices thereto.

Lori Jonas,
Assistant Section Chief, Environmental Enforcement Section, Environment and Natural Resources Division.

[FR Doc. 2020-26963 Filed 12-7-20; 8:45 am]

BILLING CODE 4410-15-P